ENVIRONMENTAL PROTECTION AGENCY

40 CFR Part 141

[EPA-HQ-OW-2011-0413; FRL-9322-3]

Expedited Approval of Alternative Test Procedures for the Analysis of Contaminants Under the Safe Drinking Water Act; Analysis and Sampling Procedures

AGENCY: Environmental Protection Agency (EPA).

ACTION: Final rule.

SUMMARY: This action announces the Environmental Protection Agency's (EPA's) approval of alternative testing methods for use in measuring the levels of contaminants in drinking water and determining compliance with national primary drinking water regulations. The Safe Drinking Water Act (SDWA) authorizes EPA to approve the use of alternative testing methods through publication in the Federal Register. EPA is using this streamlined authority to make 11 additional methods available for analyzing drinking water samples required by regulation. This expedited approach provides public water systems, laboratories, and primacy agencies with more timely access to new measurement techniques and greater flexibility in the selection of analytical methods, thereby reducing monitoring costs while maintaining public health protection.

DATES: This action is effective June 24, 2011.

FOR FURTHER INFORMATION CONTACT: Safe Drinking Water Hotline (800) 426-4791 or Glynda Smith, Technical Support Center, Standards and Risk Management Division, Office of Ground Water and Drinking Water (MS 140), Environmental Protection Agency, 26 West Martin Luther King Drive, Cincinnati, OH 45268; telephone number: (513) 569-7652; e-mail address: smith.glynda@epa.gov.

SUPPLEMENTARY INFORMATION:

I. General Information

A. Does this action apply to me?

Public water systems are the regulated entities required to measure contaminants in drinking water samples. In addition, EPA Regions as well as States and Tribal governments with authority to administer the regulatory program for public water systems under SDWA may also measure contaminants in water samples. When EPA sets a monitoring requirement in its national primary drinking water regulations for a given contaminant, the Agency also establishes in the regulations standardized test procedures for analysis of the contaminant. This action makes alternative testing methods available for particular drinking water contaminants beyond the testing methods currently established in the regulations. EPA is providing public water systems required to test water samples with a choice of using either a test procedure already established in the existing regulations or an alternative test procedure that has been approved in this action or in prior expedited approval actions. Categories and entities that may ultimately be affected by this action include:

Category | Examples of potentially regulated entities | NAICS ¹
State, Local, & Tribal Governments | States, local and tribal governments that analyze water samples on behalf of public water systems required to conduct such analysis; States, local and tribal governments that themselves operate community and non-transient non-community water systems required to monitor | 924110
Industry | Private operators of community and non-transient non-community water systems required to monitor | 221310
Municipalities | Municipal operators of community and non-transient non-community water systems required to monitor | 924110
¹ North American Industry Classification System.

This table is not exhaustive, but rather provides a guide for readers regarding entities likely to be affected by this action. This table lists the types of entities that EPA is now aware could potentially be affected by this action. Other types of entities not listed in the table could also be impacted. To determine whether your facility is affected by this action, you should carefully examine the applicability language in the Code of Federal Regulations (CFR) at 40 CFR 141.2 (definition of public water system). If you have questions regarding the applicability of this action to a particular entity, consult the person listed in the preceding FOR FURTHER INFORMATION CONTACT section.

B. How can I get copies of this document and other related information?

Docket. EPA established a docket for this action under Docket ID No. EPA-HQ-OW-2011-0413. Publicly available docket materials are available either electronically through http://www.regulations.gov or in hard copy at the Water Docket in the EPA Docket Center, (EPA/DC) EPA West, Room 3334, 1301 Constitution Ave., NW., Washington, DC. Copyrighted materials are available only in hard copy. The EPA Docket Center Public Reading Room is open from 8:30 a.m. to 4:30 p.m., Monday through Friday, excluding legal holidays. The telephone number for the Public Reading Room is (202) 566-1744, and the telephone number for the Water Docket is (202) 566-2426.

Abbreviations and Acronyms Used in This Action

APHA: American Public Health Association

CFR: Code of Federal Regulations

EPA: Environmental Protection Agency

NAICS: North American Industry Classification System

NEMI: National Environmental Methods Index

QC: Quality Control

SDWA: Safe Drinking Water Act

VCSB: Voluntary Consensus Standard Bodies

II. Background

A. What is the purpose of this action?

In this action, EPA is approving 11 analytical methods for determining contaminant concentrations in samples collected under SDWA. Regulated parties required to sample and monitor may use either the testing methods already established in existing regulations or the alternative testing methods being approved in this action or in prior expedited approval actions. The new methods are listed in Appendix A to Subpart C of Part 141 and on EPA's drinking water methods Web site at http://water.epa.gov/scitech/drinkingwater/labcert/analyticalmethods_expedited.cfm.

This action also corrects the entry for dalapon in Appendix A to Subpart C of Part 141. In an earlier expedited methods approval action, Standard Methods 6640 B and 6640 B-01 were incorrectly listed under the same analytical methodology as EPA Method 557 for the determination of dalapon in drinking water. This action amends the dalapon entry to specify the appropriate methodology for each of these methods.

This action also revised entries in Appendix A to Subpart C of Part 141 for arsenic, barium, beryllium, cadmium, calcium, chromium, copper, lead, magnesium, nickel, selenium, silica, sodium, iron, manganese, and silver to include the footnote citation for EPA Method 200.5, Revision 4.2.

B. What is the basis for this action?

When EPA determines that an alternative analytical method is “equally effective” (i.e., as effective as a method that has already been promulgated in the regulations), SDWA allows EPA to approve the use of the alternative method through publication in the Federal Register. (See Section 1401(1) of SDWA.) EPA is using this streamlined approval authority to make 11 additional methods available for determining contaminant concentrations in samples collected under SDWA. EPA has determined that, for each contaminant or group of contaminants listed in Section III, the additional testing methods being approved in this action are as effective as one or more of the testing methods already approved in the regulations for those contaminants. Section 1401(1) of SDWA states that the newly approved methods “shall be treated as an alternative for public water systems to the quality control and testing procedures listed in the regulation.” Accordingly, this action makes these additional (and optional) 11 analytical methods legally available for meeting EPA's monitoring requirements.

This action does not add regulatory language, but does, for informational purposes, update an appendix to the regulations at 40 CFR Part 141 that lists all methods approved under Section 1401(1) of SDWA. Accordingly, while this action is not a rule, it is updating CFR text and therefore is being published in the “Final Rules” section of the Federal Register.

III. Summary of Approvals

EPA is approving 11 methods that are equally effective relative to methods previously promulgated in the regulations. By means of this notice, these 11 methods are added to Appendix A to Subpart C of 40 CFR Part 141.

A. Methods Developed by Voluntary Consensus Standard Bodies (VCSB)

1. Standard Methods for the Examination of Water and Wastewater (Standard Methods). EPA compared the most recent versions of four Standard Methods to earlier versions of those methods that are currently approved in 40 CFR 141 and 143. Changes between the earlier approved version and the most recent version of each method are summarized in Smith (2011). The revisions primarily involve editorial changes (i.e., corrections of errors, procedural clarifications, and reorganization of text). The revised methods are the same as the earlier approved versions with respect to the chemistry, sample handling protocols, and method performance data. The new versions are thus equally effective relative to those that are currently approved in the regulations. Therefore, EPA is approving the use of the four updated Standard Methods for the contaminants and their respective regulations listed in the following table:

Standard method revised version | Standard method currently approved version | Contaminant | Regulation
6651 B, 21st edition (APHA 2005) | 6651 B, 20th edition (APHA 1998) | Glyphosate | 40 CFR 141.24(e)(1).
6651 B-00, (APHA 2000) | 6651 B, 20th edition (APHA 1998) | Glyphosate | 40 CFR 141.24(e)(1).
3114 B-09 (APHA 2009) | 3114 B-97 (APHA 1997) | Arsenic | 40 CFR 141.23(k)(1).
|  | Selenium | 40 CFR 141.23(k)(1).
3113 B-04 (APHA 2004) | 3113 B, 19th edition (APHA 1995) | Antimony | 40 CFR 141.23(k)(1).
|  | Arsenic | 40 CFR 141.23(k)(1).
|  | Barium | 40 CFR 141.23(k)(1).
|  | Beryllium | 40 CFR 141.23(k)(1).
|  | Cadmium | 40 CFR 141.23(k)(1).
|  | Chromium | 40 CFR 141.23(k)(1).
|  | Copper | 40 CFR 141.23(k)(1).
|  | Lead | 40 CFR 141.23(k)(1).
|  | Nickel | 40 CFR 141.23(k)(1).
|  | Selenium | 40 CFR 141.23(k)(1).
|  | Aluminum | 40 CFR 143.4(b).
|  | Iron | 40 CFR 143.4(b).
|  | Manganese | 40 CFR 143.4(b).
|  | Silver | 40 CFR 143.4(b).

Two additional Standard Methods, 6640 B, published in the 21st edition (APHA 2005), and its identical online version, 6640 B-01 (APHA 2001), were approved in a previous expedited methods approval action for determining dalapon in drinking water (75 FR 32295, June 8, 2010) (USEPA 2010). Standard Method 6640 B was developed directly from EPA Method 515.4 (USEPA 2000), and thus entails the identical sample collection/handling protocols, sample preparation and derivatization steps, chromatographic conditions, and detection. The method performance data (e.g., detection levels, accuracy and precision) specified in Standard Method 6640 B and EPA Method 515.4 are identical. In addition to addressing dalapon, EPA Method 515.4 is also an approved method for analyzing drinking water compliance samples for 2,4-D, 2,4,5-TP (i.e., Silvex), dinoseb, pentachlorophenol, and picloram as cited at 40 CFR 141.24(e)(1). Therefore, in this action EPA is expanding approval of Standard Method 6640 B and Standard Method 6640 B-01 for determining 2,4-D, 2,4,5-TP (i.e., Silvex), dinoseb, pentachlorophenol, and picloram in drinking water. The 21st edition can be obtained from the American Public Health Association (APHA), 800 I Street, NW., Washington, DC 20001-3710. Online versions of Standard Methods are available at http://www.standardmethods.org.

2. ASTM International. EPA compared the most recent versions of three ASTM International methods to the earlier versions of those methods that are currently approved in 40 CFR 141. Changes between the earlier approved version and the most recent version of each method are summarized in Smith (2011). The revisions primarily involve editorial changes (i.e., updated references, definitions, terminology, and reorganization of text). The revised methods are the same as the approved versions with respect to sample collection and handling protocols, sample preparation, analytical methodology, and method performance data. In addition, the revised version of the ASTM method for the radiochemical determination of uranium (ASTM Method D3972-09) expands the QC requirements beyond those required in the previous version. EPA has thus determined that the new versions are equally effective relative to those currently in the regulations. Therefore, EPA is approving the use of the three updated ASTM methods for the contaminants and their respective regulations listed in the following table:

ASTM revised version | ASTM approved version | Contaminant | Regulation
D1067-06 B (ASTM 2006) | D1067-02 B (ASTM 2002a) | Alkalinity | 40 CFR 141.23(k)(1).
D6919-09 (ASTM 2009a) | D6919-03 (ASTM 2003) | Sodium | 40 CFR 141.23(k)(1).
|  | Magnesium | 40 CFR 141.23(k)(1).
|  | Calcium | 40 CFR 141.23(k)(1).
D3972-09 (ASTM 2009b) | D3972-02 (ASTM 2002b) | Uranium | 40 CFR 141.25(a).

The ASTM methods are available from ASTM International, 100 Barr Harbor Drive, West Conshohocken, PA 19428-2959 or http://www.astm.org.

B. Methods Developed by Vendors

1. Hach Company TNTplus™ 835/836 Nitrate Method 10206 (Hach Company 2011a). The Hach Company TNTplus 835/836 nitrate method 10206 uses spectrophotometric analysis to determine nitrate concentrations in drinking water. The method involves the following steps:

• Electrophilic substitution of the dimethylphenol reagent results in a colored nitro-dimethylphenol product, and

• Colorimetric measurement of the absorbance at 345 nm is directly proportional to the concentration of the nitrate in the sample.

The currently approved methods for nitrate are listed at 40 CFR 141.23(k)(1). An inter-laboratory study was conducted by the vendor to compare the method performance of the Hach Company TNTplus 835/836 nitrate method 10206 to the performance of three approved methods: EPA Method 353.2 (USEPA 1993a), EPA Method 300.0 (USEPA 1993b), and Standard Method 4500-NO3− E (APHA 1998). Three laboratories analyzed a variety of matrices (e.g., low ionic strength, high ionic strength, and drinking water samples derived from both surface water and ground water sources). The samples were analyzed for nitrate by running approved methods alongside the Hach Company TNTplus 835/836 nitrate method 10206. EPA has determined that the Hach Company TNTplus 835/836 nitrate method 10206 is as effective as EPA Method 353.2, EPA Method 300.0, and Standard Method 4500-NO3− E. The basis for this determination is discussed in the validation study report (Hach Company 2010a) which summarizes the results obtained from the inter-laboratory study. The method is also a “green” alternative to approved nitrate methods that use the toxic metal, cadmium. Therefore, EPA is approving the Hach Company TNTplus 835/836 nitrate method 10206 for determining nitrate concentrations in drinking water. The Hach Company TNTplus 835/836 nitrate method 10206 can be obtained from Hach Company, 5600 Lindbergh Drive, P.O. Box 389, Loveland, Colorado 80539, phone: (970) 669-3050.

2. Hach Company SPADNS 2 (Arsenic-free) Fluoride Method 10225 (Hach Company 2011b). The Hach Company SPADNS 2 (Arsenic-free) Fluoride Method 10225 uses spectrophotometric analysis to determine fluoride concentrations in drinking water. The currently approved method using SPADNS chemistry for determining fluoride concentrations, Standard Method 4500-F− D (APHA 1998), is listed at 40 CFR 141.23(k)(1). As described in the approved method, the presence of residual chlorine in water is a known interferent and the method specifies addition of sodium arsenite to quench the chlorine. The Hach Company SPADNS 2 (Arsenic-free) Fluoride Method 10225 replaces sodium arsenite with a proprietary non-toxic, non-hazardous chlorine scavenger. An inter-laboratory study was conducted by the vendor to compare the method performance of the Hach Company SPADNS 2 (Arsenic-free) Fluoride method 10225 to the performance of the approved SPADNS method. Three laboratories analyzed a variety of matrices (e.g., low ionic strength, high ionic strength, distilled and undistilled chlorinated drinking water samples derived from both surface water and ground water sources). The samples were analyzed for fluoride by running the approved method alongside the Hach Company SPADNS 2 (Arsenic-free) Fluoride Method 10225. EPA has determined that the Hach Company SPADNS 2 (Arsenic-free) Fluoride Method 10225 is as effective as Standard Method 4500-F− D. The basis for this determination is discussed in the validation study report (Hach Company 2010b) which summarizes the results obtained from the inter-laboratory study. Therefore, EPA is approving the Hach Company SPADNS 2 (Arsenic-free) Fluoride Method 10225 for determining fluoride concentrations in drinking water. The Hach Company SPADNS (Arsenic-free) Fluoride Method 10225 can be obtained from Hach Company, 5600 Lindbergh Drive, P.O. Box 389, Loveland, Colorado 80539, phone: (800) 227-4224.

IV. Statutory and Executive Order Reviews

As noted in Section II, under the terms of SDWA Section 1401(1), this streamlined method approval action is not a rule. Accordingly, the Congressional Review Act, 5 U.S.C. 801 et seq., as added by the Small Business Regulatory Enforcement Fairness Act of 1996, does not apply because this action is not a rule for purposes of 5 U.S.C. 804(3). Similarly, this action is not subject to the Regulatory Flexibility Act because it is not subject to notice and comment requirements under the Administrative Procedure Act or any other statute. In addition, because this approval action is not a rule but simply makes alternative (optional) testing methods available for monitoring under SDWA, EPA has concluded that other statutes and executive orders generally applicable to rulemaking do not apply to this approval action.

V. References

American Public Health Association (APHA). 1995. 19th Edition of Standard Methods for the Examination of Water and Wastewater, American Public Health Association, 800 I Street, NW., Washington, DC 20001-3710.

American Public Health Association (APHA). 1997. Standard Method 3114 B-97. Arsenic and Selenium by Hydride Generation/Atomic Absorption Spectrometry. Manual Hydride Generation/Atomic Spectrometric Method. Approved by Standard Methods Committee 1997. Standard Methods Online. (Available at http://www.standardmethods.org.)

American Public Health Association (APHA). 1998. 20th Edition of Standard Methods for the Examination of Water and Wastewater, American Public Health Association, 800 I Street, NW., Washington, DC 20001-3710.

American Public Health Association (APHA). 2000. Standard Method 6651 B-00. Glyphosate Herbicide. Liquid Chromatographic Post-Column Fluorescence Method. Approved by Standard Methods Committee 2000. Standard Methods Online. (Available at http://www.standardmethods.org.)

American Public Health Association (APHA). 2001. Standard Method 6640 B-01. Acidic Herbicide Compounds. Micro Liquid-Liquid Extraction Gas Chromatographic Method. Approved by Standard Methods Committee 2001. Standard Methods Online. (Available at http://www.standardmethods.org.)

American Public Health Association (APHA). 2004. Standard Method 3113 B-04. Metals by Electrothermal Atomic Absorption Spectrometry. Electrothermal Atomic Absorption Spectrometric Method. Approved by Standard Methods Committee 2004. Standard Methods Online. (Available at http://www.standardmethods.org.)

American Public Health Association (APHA). 2005. 21st Edition of Standard Methods for the Examination of Water and Wastewater, American Public Health Association, 800 I Street, NW., Washington, DC 20001-3710.

American Public Health Association (APHA). 2009. Standard Method 3114 B-09. Arsenic and Selenium by Hydride Generation/Atomic Absorption Spectrometry. Manual Hydride Generation/Atomic Absorption Spectrometric Method. Approved by Standard Methods Committee 2009. Standard Methods Online. (Available at http://www.standardmethods.org.)

ASTM International. 2002a. ASTM D 1067-02 B. Standard Test Methods for Acidity or Alkalinity of Water. Method B—Electrometric or Color-Change Titration. ASTM International, 100 Barr Harbor Drive, West Conshohocken, PA 19428-2959. (Available at http://www.astm.org.)

ASTM International. 2002b. ASTM D 3972-02. Standard Test Method for Isotopic Uranium in Water by Radiochemistry. ASTM International, 100 Barr Harbor Drive, West Conshohocken, PA 19428-2959. (Available at http://www.astm.org.)

ASTM International. 2003. ASTM D 6919-03. Standard Test Method for Determination of Dissolved Alkali and Alkaline Earth Cations and Ammonium in Water and Wastewater by Ion Chromatography. ASTM International, 100 Barr Harbor Drive, West Conshohocken, PA 19428-2959. (Available at http://www.astm.org.)

ASTM International. 2006. ASTM D 1067-06 B. Standard Test Methods for Acidity or Alkalinity of Water. Method B—Electrometric or Color-Change Titration. ASTM International, 100 Barr Harbor Drive, West Conshohocken, PA 19428-2959. (Available at http://www.astm.org.)

ASTM International. 2009a. ASTM D 6919-09. Standard Test Method for Determination of Dissolved Alkali and Alkaline Earth Cations and Ammonium in Water and Wastewater by Ion Chromatography. ASTM International, 100 Barr Harbor Drive, West Conshohocken, PA 19428-2959. (Available at http://www.astm.org.)

ASTM International. 2009b. ASTM D 3972-09. Standard Test Method for Isotopic Uranium in Water by Radiochemistry. ASTM International, 100 Barr Harbor Drive, West Conshohocken, PA 19428-2959. (Available at http://www.astm.org.)

Hach Company. 2010a. ATP evaluation of the Hach Company TNTplus 835/836 Spectrometric Method for Measurement of Nitrate. November 2010. 5600 Lindbergh Drive, P.O. Box 389, Loveland, Colorado 80539.

Hach Company. 2010b. ATP evaluation of the Hach Company SPADNS 2 (Arsenic-free) Spectrophotometric Method for Measurement of Fluoride. August 2010. 5600 Lindbergh Drive, P.O. Box 389, Loveland, Colorado 80539.

Hach Company. 2011a. Hach Company TNTplus™ 835/836 Nitrate Method 10206—Spectrophotometric Measurement of Nitrate in Water and Wastewater. January 2011. 5600 Lindbergh Drive, P.O. Box 389, Loveland, Colorado 80539. (Available at http://www.hach.com.)

Hach Company. 2011b. Hach Company SPADNS 2 (Arsenic-free) Fluoride Method 10225—Spectrophotometric Measurement of Fluoride in Water and Wastewater. January 2011. 5600 Lindbergh Drive, P.O. Box 389, Loveland, Colorado 80539. (Available at http://www.hach.com.)

Smith, G. 2011. Memo to the record describing basis for expedited approval of updated methods from Standard Methods and ASTM International. February 01, 2011.

USEPA. 1993a. EPA Method 353.2, Revision 2.0, Determination of Nitrate-Nitrite Nitrogen by Automated Colorimetry, August 1993. (Available through NEMI at https://www.nemi.gov/apex/f?p=237:1:1657930759454130.)

USEPA. 1993b. EPA Method 300.0, Revision 2.1. Determination of Inorganic Anions by Ion Chromatography. August 1993. (Available through NEMI at https://www.nemi.gov/apex/f?p=237:1:1657930759454130.)

USEPA. 2000. EPA Method 515.4, Determination of Chlorinated Acids in Drinking Water by Liquid-Liquid Extraction, Derivatization, and Fast Gas Chromatography with Electron Capture Detection, EPA 815-B-00-001, April 2000. (Available at http://water.epa.gov/scitech/drinkingwater/labcert/analyticalmethods_ogwdw.cfm.)

USEPA. 2010. Expedited Approval of Alternative Test Procedures for the Analysis of Contaminants Under the Safe Drinking Water Act; Analysis and Sampling Procedures. 75 FR 32295. June 8, 2010.

List of Subjects in 40 CFR Part 141

Chemicals, Environmental protection, Indians—lands, Intergovernmental relations, Radiation protection, Reporting and recordkeeping requirements, Water supply.

Dated: June 16, 2011.
Cynthia C. Dougherty,
Director, Office of Ground Water and Drinking Water.

For the reasons stated in the preamble, 40 CFR Part 141 is amended as follows:

PART 141—NATIONAL PRIMARY DRINKING WATER REGULATIONS

1. The authority citation for Part 141 continues to read as follows:

Authority: 42 U.S.C. 300f, 300g-1, 300j-4, and 300j-9.

2. Appendix A to Subpart C of Part 141 is amended as follows:

a. By revising entries for “Alkalinity,” “Antimony,” “Arsenic,” “Barium,” “Beryllium,” “Cadmium,” “Calcium,” “Chromium,” “Copper,” “Fluoride,” “Lead,” “Magnesium,” “Nickel,” “Nitrate,” “Selenium,” “Silica, ” and “Sodium” in the table entitled “Alternative testing methods for contaminants listed at 40 CFR 141.23(k)(1).”

b. By revising the entry for “Dalapon” in the table entitled “Alternative testing methods for contaminants listed at 40 CFR 141.24(e)(1).”

c. By adding entries for “2,4-D” and “2,4,5-TP (Silvex)” after the entry for “Xylenes (total)” in the table entitled “Alternative testing methods for contaminants listed at 40 CFR 141.24(e)(1).”

d. By adding the entry for “Dinoseb” after the entry for “Dibromochloropropane (DBCP)” in the table entitled “Alternative testing methods for contaminants listed at 40 CFR 141.24(e)(1).”

e. By adding the entry for “Glyphosate” after the entry for “Ethyl dibromide (EDB)” in the table entitled “Alternative testing methods for contaminants listed at 40 CFR 141.24(e)(1).”

f. By adding entries for “Pentachlorophenol” and “Picloram” after the entry for “Oxamyl” in the table entitled “Alternative testing methods for contaminants listed at 40 CFR 141.24(e)(1).”

g. By revising the entry for “Uranium” in the table entitled “Alternative testing methods for contaminants listed at 40 CFR 141.25(a).”

h. By revising entries for “Aluminum,” “Iron,” “Manganese,” and “Silver” in the table entitled “Alternative testing methods for contaminants listed at 40 CFR 143.4(b).”

Appendix A to Subpart C of Part 141—Alternative Testing Methods Approved for Analyses Under the Safe Drinking Water Act.

* * * * *

Alternative Testing Methods for Contaminants Listed at 40 CFR 141.23(k)(1)
Contaminant | Methodology | EPA method | SM 21st edition ¹ | SM online ³ | ASTM ⁴ | Other
Alkalinity | Titrimetric |  | 2320 B |  | D 1067-06 B
Antimony | Hydride—Atomic Absorption |  |  |  | D 3697-07
| Atomic Absorption; Furnace |  | 3113 B | 3113 B-04
| Axially viewed inductively coupled plasma-atomic emission spectrometry (AVICP-AES) | 200.5, Revision 4.2. ²
Arsenic | Atomic Absorption; Furnace |  | 3113 B | 3113 B-04 | D 2972-08 C
| Hydride Atomic Absorption |  | 3114 B | 3114 B-09 | D 2972-08 B
| Axially viewed inductively coupled plasma-atomic emission spectrometry (AVICP-AES) | 200.5, Revision 4.2. ²
Barium | Inductively Coupled Plasma |  | 3120 B
| Atomic Absorption; Direct |  | 3111 D
| Atomic Absorption; Furnace |  | 3113 B | 3113 B-04
| Axially viewed inductively coupled plasma-atomic emission spectrometry (AVICP-AES) | 200.5, Revision 4.2. ²
Beryllium | Inductively Coupled Plasma |  | 3120 B
| Atomic Absorption; Furnace |  | 3113 B | 3113 B-04 | D 3645-08 B
| Axially viewed inductively coupled plasma-atomic emission spectrometry (AVICP-AES) | 200.5, Revision 4.2. ²
Cadmium | Atomic Absorption; Furnace |  | 3113 B | 3113 B-04
| Axially viewed inductively coupled plasma-atomic emission spectrometry (AVICP-AES) | 200.5, Revision 4.2. ²
Calcium | EDTA titrimetric |  | 3500-Ca B |  | D 511-09 A
| Atomic Absorption; Direct Aspiration |  | 3111 B |  | D 511-09 B
| Inductively Coupled Plasma |  | 3120 B
| Axially viewed inductively coupled plasma-atomic emission spectrometry (AVICP-AES) | 200.5, Revision 4.2. ²
| Ion Chromatography |  |  |  | D 6919-09
Chromium | Inductively Coupled Plasma |  | 3120 B
| Atomic Absorption; Furnace |  | 3113 B | 3113 B-04
| Axially viewed inductively coupled plasma-atomic emission spectrometry (AVICP-AES) | 200.5, Revision 4.2. ²
Copper | Atomic Absorption; Furnace |  | 3113 B | 3113 B-04 | D 1688-07 C
| Atomic Absorption; Direct Aspiration |  | 3111 B |  | D 1688-07 A
| Inductively Coupled Plasma |  | 3120 B
| Axially viewed inductively coupled plasma-atomic emission spectrometry (AVICP-AES) | 200.5, Revision 4.2. ²
* * * * * * *
Fluoride | Ion Chromatography |  | 4110 B
| Manual Distillation; Colorimetric SPADNS |  | 4500-F- B, D
| Manual Electrode |  | 4500-F-C |  | D 1179-04 B
| Automated Alizarin |  | 4500-F-E
| Arsenite-Free Colorimetric SPADNS |  |  |  |  | Hach SPADNS 2 Method 10225.²²
Lead | Atomic Absorption; Furnace |  | 3113 B | 3113 B-04 | D 3559-08 D
| Axially viewed inductively coupled plasma-atomic emission spectrometry (AVICP-AES) | 200.5, Revision 4.2. ²
Magnesium | Atomic Absorption; Direct |  | 3111 B |  | D 511-09 B
| Inductively Coupled Plasma |  | 3120 B
| Complexation Titrimetric Methods |  | 3500-Mg B |  | D 511-09 A
| Axially viewed inductively coupled plasma-atomic emission spectrometry (AVICP-AES) | 200.5, Revision 4.2. ²
| Ion Chromatography |  |  |  | D 6919-09
* * * * * * *
Nickel | Inductively Coupled Plasma |  | 3120 B
| Atomic Absorption; Direct |  | 3111 B
| Atomic Absorption; Furnace |  | 3113 B | 3113 B-04
| Axially viewed inductively coupled plasma-atomic emission spectrometry (AVICP-AES) | 200.5, Revision 4.2. ²
Nitrate | Ion Chromatography |  | 4110 B
| Automated Cadmium Reduction |  | 4500-NO3-F
| Manual Cadmium Reduction |  | 4500-NO3-E
| Ion Selective Electrode |  | 4500-NO3-D
| Reduction/Colorimetric |  |  |  |  | Systea Easy (1-Reagent).⁸
| Colorimetric; Direct |  |  |  |  | Hach TNTplus™ 835/836 Method 10206. ²³
* * * * * * *
Selenium | Hydride—Atomic Absorption |  | 3114 B | 3114 B-09 | D 3859-08 A
| Atomic Absorption; Furnace |  | 3113 B | 3113 B-04 | D 3859-08 B
| Axially viewed inductively coupled plasma-atomic emission spectrometry (AVICP-AES) | 200.5, Revision 4.2. ²
Silica | Colorimetric |  |  |  | D859-05
| Molybdosilicate |  | 4500-SiO2 C
| Heteropoly blue |  | 4500-SiO2 D
| Automated for Molybdate-reactive Silica |  | 4500-SiO2 E
| Axially viewed inductively coupled plasma-atomic emission spectrometry (AVICP-AES) | 200.5, Revision 4.2. ²
| Inductively Coupled Plasma |  | 3120 B
* * * * * * *
Sodium | Atomic Absorption; Direct Aspiration |  | 3111 B
| Axially viewed inductively coupled plasma-atomic emission spectrometry (AVICP-AES) | 200.5, Revision 4.2. ²
| Ion Chromatography |  |  |  | D 6919-09
* * * * * * *

* * * * *

Alternative Testing Methods for Contaminants Listed at 40 CFR 141.24(e)(1)
Contaminant | Methodology | EPA method | SM 21st edition ¹ | SM online ³
* * * * * * *
2,4-D | Gas Chromatography/Electron Capture Detection (GC/ECD) |  | 6640 B | 6640 B-01
2,4,5-TP (Silvex) | Gas Chromatography/Electron Capture Detection (GC/ECD) |  | 6640 B | 6640 B-01
* * * * * * *
Dalapon | Ion Chromatography Electrospray Ionization Tandem Mass Spectrometry (IC-ESI-MS/MS) | 557 ¹⁴
| Gas Chromatography/Electron Capture Detection (GC/ECD) |  | 6640 B | 6640 B-01
* * * * * * *
Dinoseb | Gas Chromatography/Electron Capture Detection (GC/ECD) |  | 6640 B | 6640 B-01
* * * * * * *
Glyphosate | High-Performance Liquid Chromatography (HPLC) with Post-Column Derivatization and Fluorescence Detection |  | 6651 B | 6651 B-00
* * * * * * *
Pentachlorophenol | Gas Chromatography/Electron Capture Detection (GC/ECD) |  | 6640 B | 6640 B-01
Picloram | Gas Chromatography/Electron Capture Detection (GC/ECD) |  | 6640 B | 6640 B-01
* * * * * * *

* * * * *

Alternative Testing Methods for Contaminants Listed at 40 CFR 141.25(a)
Contaminant | Methodology | SM 21st edition ¹ | ASTM ⁴
Naturally Occurring:
* * * * * * *
Uranium | Radiochemical | 7500-U B
| ICP-MS |  | D5673-05
| Alpha spectrometry | 7500-U C | D3972-09
| Laser Phosphorimetry |  | D5174-07
* * * * * * *

* * * * *

Alternative Testing Methods for Contaminants Listed at 40 CFR 143.4(b)
Contaminant | Methodology | EPA method | ASTM ⁴ | SM 21st edition¹ | SM online ³
Aluminum | Axially viewed inductively coupled plasma-atomic emission spectrometry (AVICP-AES) | 200.5, Revision 4.2. ²
| Atomic Absorption; Direct |  |  | 3111D
| Atomic Absorption; Furnace |  |  | 3113 B | 3113 B-04
| Inductively Coupled Plasma |  |  | 3120 B
* * * * * * *
Iron | Axially viewed inductively coupled plasma-atomic emission spectrometry (AVICP-AES) | 200.5, Revision 4.2. ²
| Atomic Absorption; Direct |  |  | 3111 B
| Atomic Absorption; Furnace |  |  | 3113 B | 3113 B-04
| Inductively Coupled Plasma |  |  | 3120 B
Manganese | Axially viewed inductively coupled plasma-atomic emission spectrometry (AVICP-AES) | 200.5, Revision 4.2. ²
| Atomic Absorption; Direct |  |  | 3111 B
| Atomic Absorption; Furnace |  |  | 3113 B | 3113 B-04
| Inductively Coupled Plasma |  |  | 3120 B
* * * * * * *
Silver | Axially viewed inductively coupled plasma-atomic emission spectrometry (AVICP-AES) | 200.5, Revision 4.2. ²
| Atomic Absorption; Direct |  |  | 3111 B
| Atomic Absorption; Furnace |  |  | 3113 B | 3113 B-04
| Inductively Coupled Plasma |  |  | 3120 B
* * * * * * *
* * * * *
¹ Standard Methods for the Examination of Water and Wastewater, 21st edition (2005). Available from American Public Health Association, 800 I Street, NW., Washington, DC 20001-3710.
² EPA Method 200.5, Revision 4.2. “Determination of Trace Elements in Drinking Water by Axially Viewed Inductively Coupled Plasma-Atomic Emission Spectrometry.” 2003. EPA/600/R-06/115. (Available at http://www.epa.gov/nerlcwww/ordmeth.htm.)
³ Standard Methods Online are available at http://www.standardmethods.org. The year in which each method was approved by the Standard Methods Committee is designated by the last two digits in the method number. The methods listed are the only online versions that may be used.
⁴ Available from ASTM International, 100 Barr Harbor Drive, West Conshohocken, PA 19428-2959 or http://astm.org. The methods listed are the only alternative versions that may be used.
* * * * *
⁸ Systea Easy (1-Reagent). “Systea Easy (1-Reagent) Nitrate Method,” February 4, 2009. Available at https://www.nemi.gov/apex/f?p=237:1:1150314317898177 or from Systea Scientific, LLC., 900 Jorie Blvd., Suite 35, Oak Brook, IL 60523.
* * * * *
¹⁴ EPA Method 557. “Determination of Haloacetic Acids, Bromate, and Dalapon in Drinking Water by Ion Chromatography Electrospray Ionization Tandem Mass Spectrometry (IC-ESI-MS/MS),” September 2009. EPA 815-B-09-012. Available at http://water.epa.gov/scitech/drinkingwater/labcert/analyticalmethods_expedited.cfm.
* * * * *
²² Hach Company Method, “Hach Company SPADNS 2 (Arsenic-free) Fluoride Method 10225—Spectrophotometric Measurement of Fluoride in Water and Wastewater,” January 2011. 5600 Lindbergh Drive, P.O. Box 389, Loveland, Colorado 80539. (Available at http://www.hach.com.)
²³ Hach Company Method, “Hach Company TNTplus™ 835/836 Nitrate Method 10206—Spectrophotometric Measurement of Nitrate in Water and Wastewater,” January 2011. 5600 Lindbergh Drive, P.O. Box 389, Loveland, Colorado 80539. (Available at http://www.hach.com.)

[FR Doc. 2011-15629 Filed 6-23-11; 8:45 am]

BILLING CODE 6560-50-P